DEPARTMENT OF COMMERCE

Foreign-Trade Zones Board

[Docket 39-2010]

Foreign-Trade Zone 3—San Francisco, CA; Application for Reorganization under Alternative Site Framework

An application has been submitted to the Foreign-Trade Zones (FTZ) Board (the Board) by the San Francisco Port Commission, grantee of FTZ 3, requesting authority to reorganize the zone under the alternative site framework (ASF) adopted by the Board (74 FR 1170, 1/12/09; correction 74 FR 3987, 1/22/09). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on May 21, 2010.

FTZ 3 was approved by the Board on March 10, 1948 (Board Order 12, 13 FR 1459, 3/19/48) and the boundaries were modified on July 31, 1950 (Board Order 25, 15 FR 1653, 9/8/50) and on December 20, 1956 (Board Order 43, 21 FR 10434, 12/28/56). FTZ 3 was relocated on May 5, 1958 (Board Order 46, 23 FR 3277, 5/14/58), an extension of the relocation granted May 5, 1965 (Board Order 66, 30 FR 6596, 5/13/65) and the zone was relocated again on July 13, 1977 (Board Order 121, 42 FR 38942, 8/1/77). FTZ 3 was expanded on November 21, 2000 (Board Order 1129, 65 FR 76217, 12/6/00).

The current zone project includes the following sites: Site 1 (5.82 acres)—Pier 19, Pier 23, Pier 50 and Pier 80 port facilities on the Embarcadero, San Francisco; Site 2 (42.50 acres)—San Francisco International Airport jet-fuel storage and distribution system, which consists of the airport hydrant and storage facilities, two adjacent off-airport terminals, a pipeline and two off-site terminals and related pipelines in Brisbane and South San Francisco; Site 3 (55 acres)—Selby Terminal petroleum facilities, 90 San Pablo Avenue, Crockett; and, Site 4 (164 acres)—Martinez Terminal petroleum facilities, 2801 Waterfront Road, Martinez.

The grantee's proposed service area under the ASF would be the City and County of San Francisco and the County of San Mateo, California, as described in the application. If approved, the grantee would be able to serve sites throughout the service area based on companies' needs for FTZ designation. The proposed service area is within and adjacent to the San Francisco Customs and Border Protection port of entry.

The applicant is requesting authority to reorganize its existing zone project to include existing sites 2, 3 and 4 as “usage-driven” sites. The applicant is also requesting authority to remove Site 1 from the zone project due to changed circumstances. Because the ASF only pertains to establishing or reorganizing a general-purpose zone, the application would have no impact on FTZ 3's authorized subzones.

In accordance with the Board's regulations, Christopher Kemp of the FTZ Staff is designated examiner to evaluate and analyze the facts and information presented in the application and case record and to report findings and recommendations to the Board.

Public comment is invited from interested parties. Submissions (original and 3 copies) shall be addressed to the Board's Executive Secretary at the address below. The closing period for their receipt is July 27, 2010. Rebuttal comments in response to material submitted during the foregoing period may be submitted during the subsequent 15-day period to August 11, 2010.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz. For further information, contact Christopher Kemp at Christopher.Kemp@trade.gov or (202) 482-0862.

Dated: May 21, 2010.
Andrew McGilvray,
Executive Secretary.

[FR Doc. 2010-12957 Filed 5-27-10; 8:45 am]

BILLING CODE 3510-DS-P